DEPARTMENT OF LABOR

Pension and Welfare Benefits Administration

Agency Information Collection Activities; Announcement of OMB Approval

AGENCY: Pension and Welfare Benefits Administration, Department of Labor.

ACTION: Notice.

SUMMARY: The Pension and Welfare Benefits Administration (PWBA) is announcing that collections of information included in its Prohibited Transaction Exemptions 75-1, 80-83, and 88-59 have been approved by the Office of Management and Budget (OMB) under the Paperwork Reduction Act of 1995. This notice announces the OMB approval numbers and expiration dates.

FOR FURTHER INFORMATION CONTACT: Address requests for copies of the information collection requests (ICRs) to Gerald B. Lindrew, U.S. Department of Labor, Pension and Welfare Benefits Administration, 200 Constitution Avenue, NW., Room N-5647, Washington, DC 20210. Telephone: (202) 219-4782. This is not a toll-free number.

SUPPLEMENTARY INFORMATION: In the Federal Register of August 22, 2000 (65 FR 51038), the Agency announced its intent to request renewal of its current OMB approval for the information collection provisions of Prohibited Transaction Class Exemption 75-1 (Broker-dealers, reporting dealers, banks engaging in securities transactions with employee benefit plans). In accordance with PRA 95, OMB has renewed its approval for the ICR under OMB control number 1210-0092. The approval expires January 31, 2004.

In the Federal Register of August 22, 2000 (65 FR 51038), the Agency announced its intent to request renewal of its current OMB approval for the information collection provisions of Prohibited Transaction Class Exemption 80-83 (Transactions involving purchase of securities where issuer may use proceeds to reduce indebtedness to parties-in-interest). In accordance with PRA 95, OMB has renewed its approval for the ICR under OMB control number 1210-0064. The approval expires January 31, 2004.

In the Federal Register of August 22, 2000 (65 FR 51037), the Agency announced its intent to request renewal of its current OMB approval for the information collection provisions of Prohibited Transaction Class Exemption 88-59 (Residential Mortgage Financing Arrangements). In accordance with PRA 95, OMB has renewed its approval for the ICR under OMB control number 1210-0095. The approval expires January 31, 2004.

Under 5 CFR 1320.5(b), an Agency may not conduct or sponsor, and a person is not required to respond to, a collection of information unless the collection of information displays a valid control number.

Dated: March 30, 2001.
Gerald B. Lindrew,
Deputy Director, Office of Policy and Research, Pension and Welfare Benefits Administration.

[FR Doc. 01-8517 Filed 4-5-01; 8:45 am]

BILLING CODE 4510-29-P